DEPARTMENT OF ENERGY

10 CFR Part 431

[EERE-2022-BT-STD-0023]

RIN 1904-AF44

Energy Conservation Program: Energy Conservation Standards for Metal Halide Lamp Fixtures

AGENCY: Office of Critical Minerals and Energy Innovation, Department of Energy.

ACTION: Final determination.

SUMMARY: The Energy Policy and Conservation Act, as amended (“EPCA”), prescribes energy conservation standards for various consumer products and certain commercial and industrial equipment, including metal halide lamp fixtures (“MHLFs”). EPCA also requires the U.S. Department of Energy (“DOE”) to periodically review its existing standards to determine whether more-stringent standards would be technologically feasible and economically justified and would result in significant energy savings. In this final determination, DOE has determined that more-stringent energy conservation standards for MHLFs would not be cost effective and, therefore, DOE does not need to amend its energy conservation standards for MHLFs.

DATES: The effective date of this final determination is March 16, 2026.

ADDRESSES: The docket for this activity, which includes Federal Register notices, comments, and other supporting documents/materials, is available for review at www.regulations.gov. All documents in the docket are listed in the www.regulations.gov index. However, not all documents listed in the index may be publicly available, such as information that is exempt from public disclosure.

The docket web page can be found at www.regulations.gov/docket/EERE-2022-BT-STD-0023. The docket web page contains instructions on how to access all documents, including public comments, in the docket.

For further information on how to review the docket, contact the Appliance and Equipment Standards Program staff at (202) 287-1445 or by email: ApplianceStandardsQuestions@ee.doe.gov.

FOR FURTHER INFORMATION CONTACT:

Mr. Jeremy Dommu, U.S. Department of Energy, Office of Critical Minerals and Energy Innovation, Building Technologies Office, EE-5B, 1000 Independence Avenue SW, Washington, DC 20585-0121. Telephone: (202) 994-8232. Email: ApplianceStandardsQuestions@ee.doe.gov.

Ms. Kristin Koernig, U.S. Department of Energy, Office of the General Counsel, GC-33, 1000 Independence Avenue SW, Washington, DC 20585-0121. Telephone: (202) 586-4798. Email: Kristin.koernig@hq.doe.gov.

SUPPLEMENTARY INFORMATION:

Table of Contents

I. Synopsis of the Final Determination

II. Introduction

A. Authority

B. Background

1. Current Standards

2. Current Rulemaking History

III. Rationale of Analysis and Discussion of Related Comments

IV. Final Determination

A. Technological Feasibility

B. Cost-Effectiveness

C. Significant Conservation of Energy

D. Summary

V. Procedural Issues and Regulatory Review

A. Review Under Executive Order 12866

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Review Under the Information Quality Bulletin for Peer Review

M. Congressional Notification

N. Review Under Additional Executive Orders and Presidential Memoranda

VI. Approval of the Office of the Secretary

I. Synopsis of the Final Determination

EPCA, Public Law 94-163, as amended,¹ authorizes DOE to regulate the energy efficiency of a number of consumer products and certain industrial equipment. (42 U.S.C. 6291-6317, as codified) Title III, Part B of EPCA ² established the Energy Conservation Program for Consumer Products Other Than Automobiles. (42 U.S.C. 6291-6309) These products include MHLFs, the subject of this final determination. (42 U.S.C. 6292(a)(19))

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

Pursuant to EPCA, DOE is required to review its existing energy conservation standards for covered consumer products no later than 3 years after a determination that standards for the product do not need to be amended. (42 U.S.C. 6295(m)(3)(B)) Pursuant to that statutory provision, DOE must publish either a notice of the determination that standards for the product do not need to be amended, or a notice of proposed rulemaking (“NOPR”) including new proposed energy conservation standards (proceeding to a final rule, as appropriate). (Id.) DOE has conducted this review of the energy conservation standards for MHLFs under EPCA's 3-year-lookback authority in EPCA following a determination that standards need not be amended.

For this final determination, DOE analyzed MHLFs subject to energy conservation standards specified in the Code of Federal Regulations (“CFR”) at 10 CFR 431.322. DOE first analyzed the technological feasibility of more energy-efficient MHLFs. For those MHLFs for which DOE determined higher standards to be technologically feasible, DOE evaluated whether higher standards would be cost effective. Based on that evaluation, DOE has determined that the market and technology characteristics of MHLFs are largely similar to those analyzed in the previous energy conservations standards rulemaking for MHLFs, which concluded with the publication of a final rule determining not to amend standards. See 86 FR 58763 (October 25, 2021) (“October 2021 Final Determination”). DOE has determined that the conclusions reached in the October 2021 Final Determination regarding the benefits and burdens of more stringent standards for MHLFs are still relevant to the MHLF market today. Hence, DOE has determined that the amended standards for MHLFs would not be cost effective.

Based on the results of the analyses, summarized in section III of this document, DOE has determined that current standards for MHLFs do not need to be amended and is issuing this final determination accordingly.

II. Introduction

The following sections briefly discuss the statutory authority underlying this final determination, as well as some of the historical background relevant to the establishment of energy conservation standards for MHLFs.

A. Authority

EPCA authorizes DOE to regulate the energy efficiency of a number of consumer products and certain industrial equipment. (42 U.S.C. 6291-6317, as codified) Title III, Part B of EPCA ³ established the Energy Conservation Program for Consumer Products Other Than Automobiles. These products include MHLFs, the subject of this document. (42 U.S.C. 6292(a)(19))

³ As noted previously, for editorial reasons, upon codification in the U.S. Code, Part B was redesignated Part A.

The energy conservation program under EPCA consists essentially of four parts: (1) testing, (2) labeling, (3) the establishment of Federal energy conservation standards, and (4) certification and enforcement procedures. Relevant provisions of EPCA specifically include definitions (42 U.S.C. 6291), test procedures (42 U.S.C. 6293), labeling provisions (42 U.S.C. 6294), energy conservation standards (42 U.S.C. 6295), and the authority to require information and reports from manufacturers (42 U.S.C. 6296).

Federal energy efficiency requirements for covered products established under EPCA generally supersede State laws or regulations concerning energy conservation testing, labeling, and standards. (42 U.S.C. 6297(a)-(c)) DOE may, however, grant waivers of Federal preemption in limited circumstances for particular State laws or regulations, in accordance with the procedures and other provisions set forth under EPCA. (42 U.S.C. 6297(d))

Subject to certain criteria and conditions, DOE is required to develop test procedures to measure the energy efficiency, energy use, or estimated annual operating cost of each covered product. (42 U.S.C. 6295(o)(3)(A) and 42 U.S.C. 6295(r)) Manufacturers of covered products must use the prescribed DOE test procedure as the basis for certifying to DOE that their product complies with the applicable energy conservation standards and as the basis for any representations regarding the energy use or energy efficiency of the product. (42 U.S.C. 6295(s) and 42 U.S.C. 6293(c)). Similarly, DOE must use these test procedures to evaluate whether a basic model complies with the applicable energy conservation standard(s). (42 U.S.C. 6295(s)) The DOE test procedures for MHLFs appear at 10 CFR 431.324.

EPCA prescribed energy conservation standards for MHLFs (42 U.S.C. 6295(hh)(1)) and directed DOE to conduct future rulemakings to determine whether to amend these standards. (42 U.S.C. 6295(hh)(2)(A) and (3)(A)) Not later than 3 years after the issuance of a final determination not to amend standards, DOE must publish either a notice of determination that standards for the product do not need to be amended, or a NOPR proposing amended energy conservation standards (proceeding to a final rule, as appropriate). (42 U.S.C. 6295(m)(3)(B)) DOE must make the analysis on which a notice of determination or NOPR is based publicly available and provide an opportunity for written comment. (42 U.S.C. 6295(m)(2))

A determination that amended standards are not needed must be based on consideration of whether amended standards will result in significant conservation of energy, are technologically feasible, and are cost effective. (42 U.S.C. 6295(m)(1)(A); 42 U.S.C. 6295(n)(2)) Under 42 U.S.C. 6295(o)(2)(B)(i)(II), an evaluation of cost effectiveness requires DOE to consider savings in operating costs throughout the estimated average life of the covered products in the type (or class) compared to any increase in the price, initial charges, or maintenance expenses for the covered products that are likely to result from the standard. (42 U.S.C. 6295(n)(2); 42 U.S.C. 6295(o)(2)(B)(i)(II))

Finally, pursuant to the amendments to EPCA contained in the Energy Independence and Security Act of 2007, Pub. L. 110-140, any final rule for new or amended energy conservation standards promulgated after July 1, 2010, is required to address standby mode and off mode energy use. (42 U.S.C. 6295(gg)(3)) Specifically, when DOE adopts a standard for a covered product after that date, it must, if justified by the criteria for adoption of standards under EPCA (42 U.S.C. 6295(o)), incorporate standby mode and off mode energy use into a single standard, or, if that is not feasible, adopt a separate standard for such energy use for that product. (42 U.S.C. 6295(gg)(3)(A)-(B)) DOE's current test procedures for MHLFs address standby mode energy use.⁴ However, DOE has yet to identify a MHLF on the market that uses energy in standby mode. Therefore, in the analysis for this final determination, DOE considered only active mode energy consumption, as standby and off mode energy use are not applicable to MHLFs at this time.

⁴ DOE determined that it is not possible for MHLFs to meet off mode criteria because there is no condition in which the components of an MHLF are connected to the main power source and are not already in a mode accounted for in either active mode or standby mode.

DOE is publishing this final determination pursuant to the 3-year-lookback review requirement in EPCA following a determination that standards need not be amended.

B. Background

1. Current Standards

Current standards for MHLFs manufactured on or after February 10, 2017, are set forth in DOE's regulations at 10 CFR 431.326 and are specified in Table II.1. 10 CFR 431.326(c). Additionally, it is specified at 10 CFR 431.326 that MHLFs manufactured on or after February 10, 2017, that operate lamps with rated wattage >500 watts (“W”) to ≤1,000 W must not contain a probe-start metal halide ballast. 10 CFR 431.326(d). The following MHLFs are not subject to these regulations: (1) MHLFs with regulated-lag ballasts; (2) MHLFs that use electronic ballasts that operate at 480 volts; and (3) MHLFs that use high-frequency electronic ballasts. 10 CFR 431.326(e).

Table II.1—Federal Energy Conservation Standards for MHLFs
Designed to be operated with lamps of the following rated lamp wattage | Tested input voltage * | Minimum standard equation * %
≥50 W and ≤100 W | 480 V | (1/(1 + 1.24 × P^(−0.351)))−0.020.**
≥50 W and ≤100 W | All others | 1/(1 + 1.24 × P^(−0.351)).
>100 W and <150 W † | 480 V | (1/(1 + 1.24 × P^(−0.351)))−0.020.
>100 W and <150 W † | All others | 1/(1 + 1.24 × P^(−0.351)).
≥150 W ‡ and ≤250 W | 480 V | 0.880.
≥150 W ‡ and ≤250 W | All others | For ≥150 W and ≤200 W: 0.880. For >200 W and ≤250 W: 1/(1 + 0.876 × P^(−0.351)).
>250 W and ≤500 W | 480 V | For >250 W and <265 W: 0.880. For ≥265 W and ≤500 W: (1/(1 + 0.876 × P^(−0.351)))−0.010.
>250 W and ≤500 W | All others | 1/(1 + 0.876 × P^(−0.351)).
>500 W and ≤1,000 W | 480 V | >500 W and ≤750 W: 0.900. >750 W and ≤1,000 W: 0.000104 × P + 0.822. For >500W and ≤1,000W: may not utilize a probe-start ballast.
>500 W and ≤1,000 W | All others | For >500 W and ≤750W: 0.910. For >750 W and ≤1,000 W: 0.000104 × P + 0.832. For >500 W and ≤1,000 W: may not utilize a probe-start ballast.
* Tested input voltage is specified in 10 CFR 431.324.
** P is defined as the rated wattage of the lamp the fixture is designed to operate.
† Includes 150W fixtures specified in paragraph (b)(3) of 10 CFR 431.326, that are fixtures rated only for 150W lamps; rated for use in wet locations, as specified by the National Fire Protection Association (“NFPA”) 70, section 410.4(A); and containing a ballast that is rated to operate at ambient air temperatures above 50 °C, as specified by Underwriters Laboratory (“UL”) 1029.
‡ Excludes 150W fixtures specified in paragraph (b)(3) of 10 CFR 431.326, that are fixtures rated only for 150W lamps; rated for use in wet locations, as specified by the NFPA 70, section 410.4(A); and containing a ballast that is rated to operate at ambient air temperatures above 50 °C, as specified by UL 1029.

2. Current Rulemaking History

As noted in section II.A of this document, EPCA directed DOE to conduct two rulemaking cycles to determine whether to amend standards for MHLFs established by EPCA. (42 U.S.C. 6295(hh)(2)(A) and (3)(A)) Accordingly, DOE published a final rule amending the standards for MHLFs on February 10, 2014 (“February 2014 Final Rule”). 79 FR 7746. These current standards are set forth in DOE's regulations at 10 CFR 431.326 and are specified in Table II.1. DOE completed the second rulemaking by publishing the October 2021 Final Determination.

In support of the present review of the MHLF energy conservation standards, on October 6, 2022, DOE published a request for information (“RFI”), which identified various issues on which DOE sought comment to inform its determination of whether the standards need to be amended. 87 FR 60555. After considering comments in response to the RFI, DOE published a notice of proposed determination (“NOPD”) on October 3, 2023 (“October 2023 NOPD”), which proposed not to amend energy conservation standards for MHLFs as amended standards would not be cost effective. 88 FR 67989.

In the October 2023 NOPD, DOE tentatively determined that, since the October 2021 Final Determination analysis, there has been no substantial change in (1) product offerings of MHLFs to warrant a change in scope of analysis or equipment classes, (2) technologies or design options that could improve the energy efficiency of MHLFs, (3) manufacturers and industry structure, (4) shipments, (5) operating hours, and (6) market and industry trends. Id. at 88 FR 67992. Additionally, DOE noted that it did not receive any comments in response to the RFI indicating technological or market changes for MHLFs. Id. As such, DOE tentatively determined that the analysis conducted for the October 2021 Final Determination and its conclusion that amended energy conservation standards for MHLFs would not be cost effective remained valid. Id.

DOE received two comments in response to the October 2023 NOPD from the interested parties listed in Table II.2.

Table II.2—Commenters With Written Submissions in Response to the October 2023 NOPD
Commenter(s) | Reference in this NOPD | Comment No. in the docket | Commenter type
National Electrical Manufacturers Association (“NEMA”) | NEMA | 5 | Trade Association.
Anonymous | Anonymous | 6 | Anonymous.

A parenthetical reference at the end of a comment quotation or paraphrase provides the location of the item in the public record.⁵

⁵ The parenthetical reference provides a reference for information located in the docket. (Docket No. EERE-2022-BT-STD-0023, which is maintained at www.regulations.gov). The references are arranged as follows: (commenter name, comment docket ID number, page of that document).

III. Rationale of Analysis and Discussion of Related Comments

DOE developed this final determination after a review of the MHLF market and comments in response to the October 2023 NOPD. In this analysis for this final determination, DOE relied on the statutory and regulatory definition for “MHLF,” which is defined as a light fixture for general lighting application designed to be operated with a metal halide lamp and a ballast for a metal halide lamp. (42 U.S.C. 6291(64)); 10 CFR 431.322. Any equipment meeting the definition of MHLF is included in DOE's scope of coverage, though not all products within the scope of coverage are subject to standards.

In the October 2023 NOPD, DOE requested comment on its proposed determination that the existing energy conservation standards for MHLFs do not need to be amended. 88 FR 67989, 67992.

In response to the October 2023 NOPD, NEMA commented that since no substantive changes have occurred in MHLF technology or in the market, the analysis conducted for the October 2021 Final Determination and the conclusion in the October 2021 Final Determination that amended standards for MHLFs would not be cost effective remain valid. NEMA stated that DOE should again determine that more stringent amended standards for MHLFs cannot satisfy the relevant statutory requirements because such standards would not be cost effective, as required under EPCA. (NEMA, No. 5 at p. 1)

In response to the October 2023 NOPD, a private citizen stated DOE should adopt a policy in which products that have declined by more than 50 to 70 percent from peak shipment levels could, after notice and comment rulemaking, be classified as inactive for the purpose of efficiency rulemakings and not be subject to every 3-year review under EPCA. Additionally, the private citizen stated that if product shipments then increase to at least 50 percent of historical peak shipment levels, the product can be reinstated as active and DOE can resume review of efficiency standards. The private citizen stated that, without such a policy, DOE and stakeholders will be wasting time and resources on these reviews every 3 years. (Anonymous, No. 6 at p. 1)

In response, DOE notes that it does not have discretion to set its review schedule as DOE is required to review its existing energy conservation standards for covered consumer products no later than 3 years after a determination that standards for the product do not need to be amended under EPCA. (42 U.S.C. 6295(m)(3)(B)) Pursuant to this statutory provision, DOE is publishing this final determination regarding whether to amend the existing energy conservation standards for MHLFs.

DOE did not receive any other comments in response to the October 2023 NOPD. Based on DOE's analysis and the comments received in response to the October 2023 NOPR, in this final determination, DOE maintains the approach in the October 2023 NOPD and finds that the analysis conducted for the October 2021 Final Determination and its conclusion that amending energy conservation standards for MHLFs are not cost effective remains valid.

IV. Final Determination

After carefully considering the comments on the October 2023 NOPD and the available data and information, DOE has determined that the energy conservation standards for MHLFs do not need to be amended, for the reasons explained below.

As required by EPCA, this final determination analyzes whether amended standards for MHLFs would result in significant conservation of energy, be technologically feasible, and be cost effective. (42 U.S.C. 6295(m)(1)(A); 42 U.S.C. 6295(n)(2)) The criteria considered under 42 U.S.C. 6295(m)(1)(A) and the additional analysis are discussed below. Because an analysis of potential cost effectiveness and energy savings first requires an evaluation of the relevant technology, DOE first discusses the technological feasibility of amended standards. DOE then addresses the cost effectiveness and energy savings associated with potential amended standards for MHLFs.

A. Technological Feasibility

As discussed previously, EPCA mandates that DOE consider whether amended energy conservation standards for MHLFs would be technologically feasible. (42 U.S.C. 6295(m)(1)(A); 42 U.S.C. 6295(n)(2)(B)) In the October 2021 Final Determination, DOE concluded that there are technology options that would improve the efficiency of MHLFs. Further, DOE concluded that these technology options are being used in commercially available MHLFs and therefore are technologically feasible. 86 FR 58763, 58791. In the October 2023 NOPD, DOE tentatively determined that its conclusions regarding technological feasibility from that analysis remain valid because there have been no substantive changes in the MHLF market since the October 2021 Final Determination analysis. 88 FR 67989, 67992. DOE received no comments or information to rebut that tentative determination. Hence, DOE has determined that amended energy conservation standards for MHLFs are technologically feasible.

B. Cost Effectiveness

EPCA requires DOE to consider whether energy conservation standards for MHLFs would be cost effective through an evaluation of the savings in operating costs throughout the estimated average life of the covered product compared to any increase in the price of, or in the initial charges for, or maintenance expenses of, the covered product which is likely to result from the imposition of an amended standard. (42 U.S.C. 6295(m)(1)(A); 42 U.S.C. 6295(n)(2)(C); 42 U.S.C. 6295(o)(2)(B)(i)(II))

In the October 2021 Final Determination, DOE determined that the average customer purchasing a representative MHLF would experience an increase in life-cycle cost (“LCC”) at each evaluated standards case as compared to the no-new-standards case. 86 FR 58763, 58785-58788. The simple payback period (“PBP”) for the average MHLF customer at most efficiency levels (“ELs”) was projected to be generally longer than the mean lifetime of the equipment, which further indicated that the increase in installed cost for more efficient MHLFs is not recouped by their associated operating cost savings. Id. at 86 FR 58788. The analysis determined that the net present value (“NPV”) benefits at the trial standard levels (“TSLs”) were also negative across all equipment classes at 3-percent and 7-percent discount rates. Id. at 86 FR 58790-58791. Hence, in the October 2021 Final Determination, DOE determined that more stringent amended energy conservation standards for MHLFs cannot satisfy the relevant statutory requirements because such standards would not be cost effective as required under EPCA. Id. at 86 FR 58791. (See 42 U.S.C. 6295(n)(2); 42 U.S.C. 6295(o)(2)(B)(II))

In the October 2023 NOPD, DOE stated that because there have been no substantive changes in the MHLF market that would affect the conclusions of the October 2021 Final Determination analysis, DOE tentatively determined that its conclusions regarding the cost effectiveness of more stringent amended energy conservation standards for MHLFs remain valid. 88 FR 67989, 67995. DOE received no comments or information in response to the October 2023 NOPD to show any substantive changes to the MHLF market to alter the LCC, PBP, and NPV analyses from the October 2021 Final Determination. Therefore, DOE has determined that more stringent amended energy conservation standards for MHLFs cannot satisfy the relevant statutory requirements because such standards would not be cost effective as required under EPCA.

C. Significant Conservation of Energy

EPCA also mandates that DOE consider whether amended energy conservation standards for MHLFs would result in significant conservation of energy. (42 U.S.C. 6295(m)(1)(A); 42 U.S.C. 6295(n)(2)(A))

In the October 2021 Final Determination, having determined that amended energy conservation standards for MHLFs would not be cost effective, DOE did not further evaluate the significance of the amount of energy conservation under the considered amended standards, because it had determined that the potential standards would not be cost effective as required under EPCA. 86 FR 58763, 58791. (See 42 U.S.C. 6295(m)(1)(A); 42 U.S.C. 6295(n)(2); 42 U.S.C. 6295(o)(2)(B)).

In the October 2023 NOPD, DOE tentatively determined that amended standards would still not be cost effective and did not evaluate the significance of the projected energy savings from an amended standard. 88 FR 67989, 67995.

In examining the current market, DOE has found that there have been no substantive changes in the MHLF market that would affect the tentative determination in the October 2023 NOPD that amended standards would still not be cost effective, so an evaluation of significance of project energy savings is not necessary.

D. Summary

In this final determination, DOE has determined that energy conservation standards for MHLFs do not need to be amended because amended standards would not be cost effective.

V. Procedural Issues and Regulatory Review

A. Review Under Executive Order 12866

Executive Order (“E.O.”) 12866, “Regulatory Planning and Review,” requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public. For the reasons stated in the preamble, this final regulatory action is consistent with these principles.

Section 6(a) of E.O. 12866 also requires agencies to submit “significant regulatory actions” to the Office of Information and Regulatory Affairs (“OIRA”) in the Office of Management and Budget for review. OIRA has determined that this final regulatory action does not constitute a “significant regulatory action” under section 3(f)(1) of E.O. 12866. Accordingly, this action was not submitted to OIRA for review under E.O. 12866.

B. Review Under the Regulatory Flexibility Act

The Regulatory Flexibility Act (5 U.S.C. 601 et seq.) requires preparation of an initial regulatory flexibility analysis and a final regulatory flexibility analysis (“FRFA”) for any rule that by law must be proposed for public comment, unless the agency certifies that the rule, if promulgated, will not have a significant economic impact on a substantial number of small entities. As required by E.O. 13272, “Proper Consideration of Small Entities in Agency Rulemaking,” 67 FR 53461 (Aug. 16, 2002), DOE published procedures and policies on February 19, 2003, to ensure that the potential impacts of its rules on small entities are properly considered during the rulemaking process. 68 FR 7990. DOE has made its procedures and policies available on the Office of the General Counsel's website (www.energy.gov/gc/office-general-counsel).

DOE reviewed this final determination under the provisions of the Regulatory Flexibility Act and the policies and procedures published on February 19, 2003. Because DOE is not amending standards for MHLFs, the final determination will not amend any energy conservation standards. On the basis of the foregoing, DOE certifies that the final determination will have no significant economic impact on a substantial number of small entities. Accordingly, DOE has not prepared an FRFA for this final determination. DOE has transmitted this certification and supporting statement of factual basis to the Chief Counsel for Advocacy of the Small Business Administration for review under 5 U.S.C. 605(b).

C. Review Under the Paperwork Reduction Act

This final determination, which concludes that no amended energy conservation standards for MHLFs are needed, imposes no new information or recordkeeping requirements. Accordingly, OMB clearance is not required under the Paperwork Reduction Act. (44 U.S.C. 3501 et seq.)

D. Review Under the National Environmental Policy Act of 1969

In the October 2023 NOPD, DOE analyzed the proposed determination in accordance with the National Environmental Policy Act of 1969 (“NEPA”) and DOE's NEPA implementing regulations (10 CFR part 1021) in effect at the time of the October 2023 NOPD's publication. In the October 2023 NOPD, DOE anticipated that the October 2023 NOPD qualified for a categorical exclusion under appendix A4 to subpart D of part 1021 because the NOPD was an interpretation or ruling with respect to an existing regulation and otherwise met the requirements for application of a categorical exclusion. 88 FR 67989, 67995. In July 2025, DOE revised part 1021 to remove appendix A and, concurrently, DOE issued Implementing Procedures.⁶ The actions formally identified in appendix A of subpart D to part 1021 now represent administrative and routine actions that are excepted from NEPA based on the definition of “major Federal action” in section 111(10) of NEPA. DOE's determination that current standards for MHLFs do not need to be amended is administrative and routine; therefore, it is not a major Federal action significantly affecting the quality of the human environment within the meaning of NEPA and no further environmental review is needed.

⁶ DOE NEPA Implementing Procedures June 30, 2025, https://www.energy.gov/sites/default/files/2025-06/2025-06-30-DOE-NEPA-Procedures.pdf.

E. Review Under Executive Order 13132

E.O. 13132, “Federalism,” 64 FR 43255 (Aug. 10, 1999), imposes certain requirements on Federal agencies formulating and implementing policies or regulations that preempt State law or that have federalism implications. The Executive Order requires agencies to examine the constitutional and statutory authority supporting any action that would limit the policymaking discretion of the States and to carefully assess the necessity for such actions. The Executive Order also requires agencies to have an accountable process to ensure meaningful and timely input by State and local officials in the development of regulatory policies that have federalism implications. On March 14, 2000, DOE published a statement of policy describing the intergovernmental consultation process it will follow in the development of such regulations. 65 FR 13735. DOE has examined this final determination and has determined that it would not have a substantial direct effect on the States, on the relationship between the national government and the States, or on the distribution of power and responsibilities among the various levels of government. EPCA governs and prescribes Federal preemption of State regulations as to energy conservation for the products that are the subject of this final determination. States can petition DOE for exemption from such preemption to the extent, and based on criteria set forth in EPCA. (42 U.S.C. 6316(a) and (b); 42 U.S.C. 6297) Therefore, no further action is required by E.O. 13132.

F. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of E.O. 12988 requires Executive agencies to review regulations in light of applicable standards in section 3(a) and section 3(b) to determine whether they are met or it is unreasonable to meet one or more of them. DOE has completed the required review and determined that, to the extent permitted by law, this final determination meets the relevant standards of E.O. 12988.

G. Review Under the Unfunded Mandates Reform Act of 1995

Title II of the Unfunded Mandates Reform Act of 1995 (“UMRA”) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at www.energy.gov/sites/prod/files/gcprod/documents/umra_97.pdf.

DOE examined this final determination according to UMRA and its statement of policy and determined that the final determination does not contain a Federal intergovernmental mandate, nor is it expected to require expenditures of $100 million or more in any one year by State, local, and Tribal governments, in the aggregate, or by the private sector. As a result, the analytical requirements of UMRA do not apply.

H. Review Under the Treasury and General Government Appropriations Act, 1999

Section 654 of the Treasury and General Government Appropriations Act, 1999 (Pub. L. 105-277) requires Federal agencies to issue a Family Policymaking Assessment for any rule that may affect family well-being. This final determination would not have any financial impact on families nor any impact on the autonomy or integrity of the family as an institution. Accordingly, DOE has concluded that it is not necessary to prepare a Family Policymaking Assessment.

I. Review Under Executive Order 12630

Pursuant to E.O. 12630, “Governmental Actions and Interference with Constitutionally Protected Property Rights,” 53 FR 8859 (Mar. 15, 1988), DOE has determined that this final determination would not result in any takings that might require compensation under the Fifth Amendment to the U.S. Constitution.

J. Review Under the Treasury and General Government Appropriations Act, 2001

Section 515 of the Treasury and General Government Appropriations Act, 2001 (44 U.S.C. 3516 note) provides for Federal agencies to review most disseminations of information to the public under information quality guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines, which are available at https://www.energy.gov/cio/department-energy-information-quality-guidelines. DOE has reviewed this final determination under the OMB and DOE guidelines and has concluded that it is consistent with applicable policies in those guidelines.

K. Review Under Executive Order 13211

E.O. 13211, “Actions Concerning Regulations That Significantly Affect Energy Supply, Distribution, or Use,” 66 FR 28355 (May 22, 2001), requires Federal agencies to prepare and submit to OIRA at OMB a Statement of Energy Effects for any proposed significant energy action. A “significant energy action” is defined as any action by an agency that promulgates or is expected to lead to promulgation of a final rule, and that (1) is a significant regulatory action under E.O. 12866, or any successor E.O.; and (2) is likely to have a significant adverse effect on the supply, distribution, or use of energy; or (3) is designated by the Administrator of OIRA as a significant energy action. For any significant energy action, the agency must give a detailed statement of any adverse effects on energy supply, distribution, or use should the proposal be implemented, and of reasonable alternatives to the action and their expected benefits on energy supply, distribution, and use.

This final determination, which does not amend energy conservation standards for MHLFs, is not a significant regulatory action under E.O. 12866. Moreover, it would not have a significant adverse effect on the supply, distribution, or use of energy, nor has it been designated as such by the Administrator at OIRA. Accordingly, DOE has not prepared a Statement of Energy Effects.

L. Review Under the Information Quality Bulletin for Peer Review

On December 16, 2004, OMB, in consultation with the Office of Science and Technology Policy, issued its Final Information Quality Bulletin for Peer Review (“the Bulletin”). 70 FR 2664 (Jan. 14, 2005). The Bulletin establishes that certain scientific information shall be peer reviewed by qualified specialists before it is disseminated by the Federal Government, including influential scientific information related to agency regulatory actions. The purpose of the Bulletin is to enhance the quality and credibility of the Government's scientific information. Under the Bulletin, the energy conservation standards rulemaking analyses are “influential scientific information,” which the Bulletin defines as “scientific information the agency reasonably can determine will have, or does have, a clear and substantial impact on important public policies or private sector decisions.” Id. at 70 FR 2667.

In response to OMB's Bulletin, DOE conducted formal peer reviews of the energy conservation standards development process and the analyses that are typically used and has prepared a peer review report pertaining to the energy conservation standards rulemaking analyses.⁷ Generation of this report involved a rigorous, formal, and documented evaluation using objective criteria and qualified and independent reviewers to make a judgment as to the technical/scientific/business merit, the actual or anticipated results, and the productivity and management effectiveness of programs and/or projects. Because available data, models, and technological understanding have changed since 2007, DOE has engaged with the National Academy of Sciences to review DOE's analytical methodologies to ascertain whether modifications are needed to improve the Department's analyses. DOE is in the process of evaluating the resulting report.⁸

⁷ “Energy Conservation Standards Rulemaking Peer Review Report.” 2007. Available at www.energy.gov/eere/buildings/downloads/energy-conservation-standards-rulemaking-peer-review-report-0 (last accessed Nov. 7, 2022).

⁸ The December 2021 NAS report is available at www.nationalacademies.org/our-work/review-of-methods-for-setting-building-and-equipment-performance-standards.

M. Congressional Notification

As required by 5 U.S.C. 801, DOE will report to Congress on the promulgation of this final determination prior to its effective date. The report will state that it has been determined that the final determination is not a “major rule” as defined by 5 U.S.C. 804(2).

N. Review Under Additional Executive Orders and Presidential Memoranda

DOE has examined this final determination and has determined that it is consistent with the policies and directives outlined in E.O. 14154 “Unleashing American Energy,” E.O. 14192, “Unleashing Prosperity Through Deregulation,” and Presidential Memorandum, “Delivering Emergency Price Relief for American Families and Defeating the Cost-of-Living Crisis.” DOE has determined that more stringent MHLFs standards would not be cost-effective, and that standards for MHLFs should not be amended. DOE's final determination effectively preserves consumer choice. DOE's determination also provides manufacturers with regulatory certainty, which may allow for market innovations and a reduction in consumer costs. Accordingly, this final determination is considered an E.O. 14192 deregulatory action.

VI. Approval of the Office of the Secretary

The Secretary of Energy has approved publication of this notification of final determination.

Signing Authority

This document of the Department of Energy was signed on February 5, 2026, by Audrey Robertson, Assistant Secretary (EERE) for Critical Minerals and Energy Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 11, 2026.
Treena V. Garrett,
Federal Register Liaison Officer, U.S. Department of Energy.

[FR Doc. 2026-02935 Filed 2-12-26; 8:45 am]

BILLING CODE 6450-01-P